DEPARTMENT OF TRANSPORTATION

Federal Aviation Administration

14 CFR Parts 91 and 105

[Docket No.: FAA-2005-21829; Amendment Nos. 91-305, 105-13]

RIN 2120-AI85

Parachute Equipment and Packing

AGENCY: Federal Aviation Administration (FAA), DOT.

ACTION: Final rule.

SUMMARY: The FAA is amending the regulations governing the packing interval for certain types of parachutes. Currently, the FAA prohibits most parachutes from being used or carried aboard an aircraft and available for emergency use unless they have been packed within the previous 120 days. New reliability data from the parachute industry and other sources indicate that the packing interval should be increased; therefore, we are lengthening the interval from 120 to 180 days. This final rule revises the parachute packing interval and ensures safe use.

DATES: This amendment becomes effective December 19, 2008.

FOR FURTHER INFORMATION CONTACT: For technical questions concerning this final rule, contact Kim Barnette, AFS-350, Aircraft Maintenance Division, General Aviation and Avionics Branch, AFS-350, Federal Aviation Administration, 800 Independence Avenue, SW., Washington, DC 20591; telephone (202) 493-4922; facsimile (202) 267-5115, e-mail kim.a.barnette@faa.gov.

For legal questions concerning this final rule, contact Ed Averman, Regulations Division, AGC-210, FAA Office of the Chief Counsel, 800 Independence Avenue, SW., Washington, DC 20591; telephone (202) 267-3147; facsimile (202) 267-7971, e-mail ed.averman@faa.gov.

SUPPLEMENTARY INFORMATION:

Authority for This Rulemaking

The FAA's authority to issue rules on aviation safety is found in Title 49 of the United States Code. Subtitle I, section 106 describes the authority of the FAA Administrator. Subtitle VII, Aviation Programs, describes in more detail the scope of the agency's authority.

This rulemaking is promulgated under the authority described in Subtitle VII, part A, subpart iii, section 44701. Under that section, the FAA is charged with promoting safe flight of civil aircraft in air commerce by prescribing regulations and minimum standards in the interest of safety for inspecting, servicing, and overhauling aircraft, aircraft engines, propellers, and appliances. This rule is within the scope of that authority because it affects the airworthiness of parachutes used for airborne emergencies and sport applications.

Background

The majority of nonmilitary parachutes used in the United States are either sport parachutes or parachutes used for emergency purposes. Nearly all sport parachutes are used for skydiving and use a “dual parachute system.” Dual parachute systems contain a “main” parachute and a second parachute called a “reserve” parachute, to be used if the main parachute fails. The other commonly used parachute is a single-unit emergency parachute, often worn in case of emergency when operating special aircraft like gliders or aerobatic airplanes.

The FAA issued a rule in 1978 requiring that all main and most reserve parachutes be packed every 120 days. Before 1978, the FAA required that all parachutes be packed every 60 days. The FAA extended the packing interval to 120 days because new synthetic parachute materials like nylon and Dacron were becoming commonplace. Parachutists had found the synthetic material was just as reliable after being packed for 120 days as it was after 60 days.

This rule still required a 60-day packing interval for reserve parachutes that are composed of any amount of silk, pongee, or other natural fiber, or a material that is not nylon, rayon, or similar synthetic fiber. A similar requirement exists for emergency-use parachutes.

Recently acquired data from the U.S. military, foreign aviation authorities, and parachute industry representatives suggest that the current 120-day packing interval is too short. Numerous experts asserted that modern parachute materials last longer when the packing interval is longer than 120 days and that too-frequent packing shortens the life of the materials. Those experts found the parachutes' porosity was affected by handling and manipulation of the parachute while being packed. Therefore, the FAA proposed 180 days as a more suitable packing interval for modern parachute systems.

Simula, Inc., a parachute manufacturer, and the U.S. Navy performed a number of varied tests on the repack cycle of Darachute parachutes that had been vacuum-sealed for over 7 years. Laboratory, environmental, dummy and live airdrops, and other tests were conducted. Results strongly supported that the reliability of the vacuum-sealed parachute under the tested conditions would not decrease after being packed for more than 5 years. In the rule at hand, we are only extending the repack cycle from 120 days to 180 days, which is a much shorter interval than 5 years. This study supports our view that the 180-day repack cycle would not adversely affect parachutes' safety.

The Naval Air Warfare Center Weapons Division (NAWCWD), the U.S. Navy's Technical Agent for personnel parachuting, supports a longer repack cycle than the current 120 days. The NAWCWD develops, evaluates, and recommends policies regarding parachute service and repack cycles for the Navy. Currently, the repack interval for certain parachutes, all made of synthetic fibers, is 182 days for both the main and reserve parachutes. NAWCWD asserts that none of the Navy's parachuting units have reported “any safety or maintenance problems/issues associated with the 182-day repack cycle.”

The Parachute Industry Association (PIA) conducted a study on frequent repacking and its effect on the airworthiness or performance of parachutes. PIA also considered the porosity of fabric in relation to the handling of fabric. Evidence showed that “there is no valid safety-related justification for continuing with a 120-day repack cycle” for parachutes. Parachutes made with low-porosity fabrics showed most “wear” during packing, rather than in their actual use (i.e., deployment). PIA concluded that this “wear” could cause “degradation of [a] parachute's performance over [a] series of repack cycles.” Therefore, PIA supports the change to a 180-day repack cycle.

The FAA has granted several exemptions to foreign individuals who participate in parachute events in the United States. Those exemptions allowed the foreign parachutists to use their parachutes even if they had not been packed within the previous 120 days, and many of those foreign parachutists' countries had much longer repack intervals. We have relied on each parachutist's compliance with the packing interval requirements of the aviation authority in each parachutist's own country. No accident-incident reports over the past 7 years show accidents or incidents attributed to material failures of parachutes.

In this final rule, we are also making several minor corrections to 14 CFR parts 91 and 105. We are removing the reference to “chair type” parachutes in § 91.307 because all parachutes, regardless of type, will have the same packing interval. We are also making two corrections to typographical errors we found in § 105.43. We are not making any changes to the packing interval for parachutes made from natural fibers such as silk or pongee.

Summary of the NPRM

On May 22, 2007, the FAA published notice of proposed rulemaking (NPRM) 07-12, entitled Parachute Equipment and Packing.¹ The FAA proposed to increase the repack intervals for parachutes made of certain materials and also to make some minor technical corrections to the rules governing parachute operations. In the NPRM, we invited data from the public that would support or challenge our proposal to change the current parachute packing interval. The public comment period closed on August 20, 2007.

¹ 72 FR 28820.

Prior to issuing the NPRM, the FAA had concluded it was time to reconsider our parachute packing interval requirements. The FAA has long had systems to collect data about incidents related to parachutes and the activity of FAA-certificated parachute riggers; however, we had not been able to obtain any information from our own data about the effect of the packing interval on modern parachute materials. On July 8, 2005, PIA petitioned the FAA for an exemption from the 120-day packing interval, and it provided data that suggested a longer interval might be warranted (FAA-2005-21829-1). The petition stated many foreign countries and military organizations were using longer packing intervals that did not adversely affect safety or parachute performance. We used this data to support our proposal.

We have made no changes to the proposed regulatory text in this final rule. The significant comments we received are discussed in the “Discussion of the Final Rule” section below.

Related Activity

A separate final rule, entitled Parachute Repack Authorization, which clarifies the parachute repack authority given to certain personnel, is currently in development.

Summary of Comments

We received 338 comments on this rulemaking. Commenters included: government authorities, professional organizations, businesses, and a multitude of individuals, including many certificated parachute riggers and members of the U.S. military. Most of the commenters supported the proposed rule; several commenters also had suggestions for change, and eight commenters expressed explicit opposition to the rule.

The FAA received comments on the following general areas of the proposal.

• Changing the repack interval to reflect “months” instead of “days”.

• Significantly increasing the repack interval.

• Allowing manufacturers to determine the repack interval.

• Adding certain conditions or additional inspection requirements.

All comments are discussed more fully in the “Discussion of the Final Rule” section below.

Discussion of the Final Rule

Parachute Packing Interval

We have revised the parachute packing requirements in §§ 91.307 and 105.43 to increase the packing interval from 120 to 180 days. We are also removing an unnecessary reference to “chair type” parachutes in § 91.307 and correcting two minor typographical errors in § 105.43. These changes affect emergency-use parachutes composed exclusively of nylon, rayon, or other similar synthetic fiber or materials and all main and most (those composed exclusively of nylon, rayon, or other similar synthetic fiber or materials) reserve parachutes.

We received numerous comments regarding the proposed change to the repack interval. Some commenters suggested that in lieu of 180 days, the FAA should adopt a 6-month repack interval, and others suggested that the interval should be 6 calendar months. We viewed these comments as favorable since the commenters did not express opposition to the rule. The commenters merely stated their suggestions without providing a rationale for them. The FAA, however, considers there to be a difference between 180 days, six months, and six calendar months. The 180 days is a fixed period, whereas a 6-month period could vary depending on the number of days in the 6 months. We will retain the 180-day repacking interval as proposed.

Other comments suggested that the repack interval should be extended well beyond the proposed 180 days, up to a period of 365 days, or one calendar year. We do not agree that the repack interval should be extended beyond what was proposed. The parachute industry collected and analyzed the technical data to support extending the repack interval to 180 days and submitted that data to the FAA for consideration. The FAA concurred with industry's conclusion and issued the NPRM for public comment. We did not receive sufficient data to support extending the repack interval beyond 180 days.

Four commenters recommended that the FAA allow manufacturers to determine what the appropriate repack interval should be for their respective equipment. We disagree. This is a safety issue, and we retain responsibility for establishing the minimum standards to which all aircraft products are inspected and maintained. By standardizing the repack interval, we alleviate potentially unsafe variances in equipment that may result if that responsibility is delegated to manufacturers. Therefore, that responsibility will not be delegated to manufacturers.

One commenter supported the extended repack interval proposed in the NPRM, but asked that we modify the rule to state that 180 days should apply only to operations where parachutes are required. The commenter further suggested that “if you must outlaw safety equipment that isn't even required, then in good conscience you might at least make the rule say that the parachute is good for one year for flight operations where it is not required equipment.” The FAA finds this comment inconsistent with the intent of this rule and outside the scope of this rulemaking, which is simply to extend the repack interval to 180 days.

Another commenter stated that we should increase the repack interval for back parachutes to one year, and the repack interval for seat type parachutes to at least 180 days. The commenter also stated that “the repack interval for silk, poplin and other canopies made with older materials that are not mildew resistant should remain at 120 days.”

We did not propose to increase the repack interval of any reserve parachute composed of any amount of silk beyond the current 60-day repack requirement. We note that the commenter incorrectly stated the existing repack requirement as 120 days for these parachutes. The commenter provided no data to support extending the repack interval of any parachute beyond 180 days.

A commenter suggested that a mandatory rigger inspection of the entire parachute system should be implemented. The commenter stated: “This way the riggers still have something to do with their time and can charge more for the service.” We note that adding inspection and maintenance requirements is beyond the narrow focus of this rulemaking, which is intended only to amend the repack interval.

Another commenter stated that this rule should also apply to the main parachute of a dual harness/dual parachute (tandem) system and that “the 180 day requirement should be applied to such systems to give at least the same level of control as single harness/dual parachute systems.” Although this comment may have some merit, it too is beyond the narrow scope of this rulemaking, which addresses only single harness, dual parachute systems. The FAA will consider this issue for possible inclusion into future rulemaking.

Several commenters suggested that additional text should be added to the rule language to state that if a parachute has been immersed in water or is “suspected to be wet,” or if the parachute was exposed to intense heat (fire) or other abnormal conditions as defined by the manufacturer (either of the noted conditions would have a significant effect on the safety of the parachute), then the parachute must be inspected and repacked by a certificated parachute rigger. We note that jumpers are already responsible for maintaining their equipment between packing intervals, just as any other parachute owner. To include specific maintenance requirements is not within the scope of this rulemaking.

One commenter supported the rule as proposed, but suggested that the Department of Transportation or the FAA should contact the U.S. Army Quartermaster Center at Fort Lee, VA—the Department of Defense authority for parachute rigging—to get an official position on this issue. We agree and have already reviewed and considered pertinent data from the U.S. Army and U.S. Navy.

Two commenters, both master parachute riggers from “The Parachute Shop,” expressed total opposition to the proposed rule change, citing the “low experience levels” of many jumpers and riggers due to “inadequate training.” Additionally, the commenters expressed concern that the proposed extension of repack intervals will exacerbate this condition by providing fewer opportunities for training and experience. Although there is no FAA involvement in the training curriculum for parachute jumping or rigging, we have no data to support the assertion of “inadequate training” or evidence of unacceptable safety risks within the parachuting community. The narrow scope of this rulemaking does not contemplate placing controls or training requirements on school curricula. Further, a student's parachute must be packed by a certificated rigger or a person under the direct supervision of a certificated rigger to ensure that safety of the rented parachute is not compromised. We are also providing clarification to any “experience level” concerns in a different rulemaking that clearly defines who can perform certain parachute repack functions.

A commenter expressed opposition to any extension beyond the current 120-day interval, as he believes that environments associated with conditions of “high humidity” might not have been given due consideration as a part of this rulemaking effort. We disagree. The data submitted and considered by the FAA in support of the increase in repack intervals represents operations in all atmospheric conditions, including conditions of high humidity.

Another commenter, a skydiving instructor, is opposed to the proposed rule and cited several concerns. The commenter stated that the 120-day repack requirement affords a certificated parachute rigger the opportunity to complete an inspection of the entire parachute system. This includes components considered “heavy wear items,” such as automatic activation devices. The commenter stated that “extending the repack cycle will reduce how often these elements are inspected.” The commenter further suggested that cost savings to users may be receiving greater attention than safety in this rulemaking effort. We disagree. The parachute industry collected and analyzed the technical data to support extending the repack interval to 180 days and submitted the data to the FAA for consideration. After evaluating the technical data, we concurred with industry's conclusion and have determined that there will be no reduction in safety by extending the repack interval to 180 days.

Two commenters, both master parachute riggers, oppose the proposed rule and cited potential problems that were averted due to timeliness of the current 120-day inspection interval. The commenters suggested that any extension to the repack interval could have an adverse effect on safety. However, the commenters merely stated that there had been “averted problems” but produced no supporting data to substantiate their claim of a relationship between any “averted problems” and the current 120-day repack interval.

A commenter stated concerns about the handling of rental equipment and student equipment. However, the commenter submitted no data to support this position. We find the commenter's concerns regarding rental and student equipment unwarranted. Students are instructed that their parachutes must be packed each time by a certificated rigger or a person under the direct supervision of a certificated rigger to ensure that the safety of parachutes is not compromised. Each time a parachute is packed, any safety concerns of the harness, container, and canopy should be detected and addressed by the certificated rigger.

One commenter, a senior parachute rigger, offered several reasons why he is opposed to the rule. The commenter suggested that the momentum for this rule was produced by the Parachute Industry Association (PIA), and he implied that the FAA and some in industry have simply chosen to follow PIA's lead. The commenter further suggested that the United States is departing from higher standards and simply reacting to changes implemented by other countries, and he alleged that there are many riggers and jumpers with insufficient experience and/or knowledge of parachute operations.

The commenter also asserted that the 120-day repack requirement affords a certificated parachute rigger the opportunity to complete an inspection of the entire parachute system and to include items such as automatic activation devices, which the commenter stated are prone to battery leakages. The commenter further stated that “extending the repack cycle will reduce the inspection of these uncertified safety-critical devices.” Lastly, the commenter suggested that should the FAA proceed with the proposed rulemaking, consideration should be given to a distinction between requirements for private use versus rented/commercial use equipment. In addition, one commenter suggested that the FAA was arbitrary in selecting a 180-day interval for parachute repacking and that risks versus net safety benefits might not have been given due consideration in the process. Another commenter also stated the current 120-day interval should stand unchanged. That commenter further stated that the concerns are not with a reserve opening issue, but rather with components such as “the harness and container and canopy.”

We disagree with the commenters' assessments. The parachute industry collected and analyzed the technical data to support extending the repack interval to 180 days and submitted that data to the FAA for consideration. The FAA concurred with industry's conclusion, which is also supported by U.S. military data. Our analysis of available data and consideration of comments received led us to conclude that extending the repack interval to 180 days would not adversely affect safety. Actually, we are enhancing safety by alleviating the adverse effects handling has on the porosity of parachutes.

Paperwork Reduction Act

The Paperwork Reduction Act of 1995 (44 U.S.C. 3507(d)) requires that the FAA consider the impact of paperwork and other information collection burdens imposed on the public. We have determined that there is no current or new requirement for information collection associated with this amendment.

International Compatibility

In keeping with U.S. obligations under the Convention on International Civil Aviation, it is FAA policy to comply with International Civil Aviation Organization (ICAO) Standards and Recommended Practices to the maximum extent practicable. The FAA has determined that there are no ICAO Standards and Recommended Practices that correspond to these regulations.

Regulatory Evaluation, Regulatory Flexibility Determination, International Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule. We suggest readers seeking greater detail read the regulatory evaluation, a copy of which we have placed in the docket for this rulemaking.

This final rule will result in no quantifiable costs, although there may be some minor loss of revenue to parachute riggers. Also, we believe that extending the packing requirement from 120 days to 180 days would not degrade the current level of safety afforded to parachutists, and the level of safety in an emergency situation may increase because the parachutes would not be handled as often. Repacking parachutes may cause some degradation in the strength of the parachute material.

The FAA has, therefore, determined that this final rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This rulemaking will result in some minor cost savings to parachutists. We consider parachutists to be individuals who are not subject to RFA. This final rule does not impose costs on any small entities; it may however, result in some minor loss of revenue to parachute riggers. Therefore, as the Acting FAA Administrator, I certify that this rule will not have a significant economic impact on a substantial number of small entities.

International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this final rule and has determined that it will have only a domestic impact and therefore no effect on international trade.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The value equivalent of $100 million in CY 1995, adjusted for inflation to CY 2007 levels by the Consumer Price Index for All Urban Consumers (CPI-U) as published by the Bureau of Labor Statistics, is $136.1 million. This final rule does not contain such a mandate.

Executive Order 13132, Federalism

The FAA has analyzed this final rule under the principles and criteria of Executive Order 13132, Federalism. We determined that this action will not have a substantial direct effect on the States, or the relationship between the national Government and the States, or on the distribution of power and responsibilities among the various levels of government, and, therefore, does not have federalism implications.

Environmental Analysis

FAA Order 1050.1E identifies FAA actions that are categorically excluded from preparation of an environmental assessment or environmental impact statement under the National Environmental Policy Act in the absence of extraordinary circumstances. The FAA has determined this final rulemaking action qualifies for the categorical exclusion identified in paragraph 312 and involves no extraordinary circumstances.

Regulations That Significantly Affect Energy Supply, Distribution, or Use

The FAA has analyzed this final rule under Executive Order 13211, Actions Concerning Regulations that Significantly Affect Energy Supply, Distribution, or Use (May 18, 2001). We have determined that it is not a “significant energy action” under the executive order because it is not a “significant regulatory action” under Executive Order 12866, and it is not likely to have a significant adverse effect on the supply, distribution, or use of energy.

Availability of Rulemaking Documents

You may obtain an electronic copy of rulemaking documents using the Internet by—

1. Searching the Federal eRulemaking Portal (http://www.regulations.gov);

2. Visiting the FAA's Regulations and Policies Web page at http://www.faa.gov/regulations_policies/; or

3. Accessing the Government Printing Office's Web page at http://www.gpoaccess.gov/fr/index.html.

You may also obtain a copy by sending a request to the Federal Aviation Administration, Office of Rulemaking, ARM-1, 800 Independence Avenue, SW., Washington, DC 20591, or by calling (202) 267-9680. Make sure to identify the amendment number or docket number of this rulemaking.

Anyone is able to search the electronic form of all comments received into any of our dockets by the name of the individual submitting the comment (or signing the comment, if submitted on behalf of an association, business, labor union, etc.). You may review DOT's complete Privacy Act statement in the Federal Register published on April 11, 2000 (Volume 65, Number 70; Pages 19477-78) or you may visit or you may visit http://www.regulations.gov.

Small Business Regulatory Enforcement Fairness Act

The Small Business Regulatory Enforcement Fairness Act (SBREFA) of 1996 requires FAA to comply with small entity requests for information or advice about compliance with statutes and regulations within its jurisdiction. If you are a small entity and you have a question regarding this document, you may contact your local FAA official, or the person listed under the FOR FURTHER INFORMATION CONTACT heading at the beginning of the preamble. You can find out more about SBREFA on the Internet at http://www.faa.gov/regulations_policies/rulemaking/sbre_act/.

List of Subjects in 14 CFR Parts 91 and 105

Aviation safety.

The Amendment

In consideration of the foregoing, the Federal Aviation Administration amends Chapter I of Title 14, Code of Federal Regulations, as follows:

PART 91—GENERAL OPERATING AND FLIGHT RULES

1. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

2. Amend § 91.307 by revising paragraph (a) to read as follows:

§ 91.307 Parachutes and parachuting.

(a) No pilot of a civil aircraft may allow a parachute that is available for emergency use to be carried in that aircraft unless it is an approved type and has been packed by a certificated and appropriately rated parachute rigger—

(1) Within the preceding 180 days, if its canopy, shrouds, and harness are composed exclusively of nylon, rayon, or other similar synthetic fiber or materials that are substantially resistant to damage from mold, mildew, or other fungi and other rotting agents propagated in a moist environment; or

(2) Within the preceding 60 days, if any part of the parachute is composed of silk, pongee, or other natural fiber or materials not specified in paragraph (a)(1) of this section.

* * * * *

PART 105—PARACHUTE OPERATIONS

3. The authority citation for part 105 continues to read as follows:

Authority: 49 U.S.C. 106(g), 40113-40114, 44701-44702, 44721.

4. Amend § 105.43 by revising paragraph (a) and (b)(1) to read as follows:

§ 105.43 Use of single-harness, dual-parachute systems.

* * * * *

(a) The main parachute must have been packed within 180 days before the date of its use by a certificated parachute rigger, the person making the next jump with that parachute, or a non-certificated person under the direct supervision of a certificated parachute rigger.

(b) * * *

(1) Within 180 days before the date of its use, if its canopy, shroud, and harness are composed exclusively of nylon, rayon, or similar synthetic fiber or material that is substantially resistant to damage from mold, mildew, and other fungi, and other rotting agents propagated in a moist environment; or

* * * * *

Issued in Washington, DC, on November 6, 2008.
Robert A. Sturgell,
Acting Administrator.

[FR Doc. E8-27459 Filed 11-18-08; 8:45 am]

BILLING CODE 4910-13-P